DEPARTMENT OF COMMERCE

National Oceanic and Atmospheric Administration

[I.D. 020806F]

National Marine Fisheries Service, Pacific Fishery Management Council; March 5-10, 2006 Council Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 5-10, 2006. The Council meeting will begin on Monday, March 6, at 1 p.m., reconvening at 8 a.m. each day Tuesday through Friday. All meetings are open to the public, except a closed session will be held from 1 p.m. until 2 p.m. on Monday, March 6 to address litigation and personnel matters. The Council will meet as late as necessary each day to complete its scheduled business.

ADDRESSES: The meetings will be held at the Seattle Marriott Hotel Sea-Tac, 3201 South 176th Street, Seattle, WA 98188; telephone: 206-241-2000.

Council address: Pacific Fishery Management Council, 7700 NE Ambassador Place, Suite 200, Portland, Oregon 97220.

FOR FURTHER INFORMATION CONTACT: Dr. Donald O. McIsaac, Executive Director; telephone: (503) 820-2280 or (866) 806-7204.

SUPPLEMENTARY INFORMATION: The following items are on the Council agenda, but not necessarily in this order:

A. Call to Order

1. Opening Remarks and Introductions

2. Roll Call

3. Executive Director's Report

4. Approve Agenda

B. Administrative Matters

1. Approval of Council Meeting Minutes

2. Council Meeting Agenda Planning

3. Legislative Matters

4. Appointments to Advisory Bodies, Standing Committees, and Other Forums

5. April 2006 Council Meeting Agenda and Three Meeting Outlook

C. Salmon Management

1. Mass Marking and Coded-Wire Tagging

2. Fort Bragg March 15, 2006 Commercial Fishery Opening

3. Review of 2005 Fisheries and Summary of 2006 Stock Abundance Estimates

4. Identification of Management Objectives and Preliminary Definition of 2006 Salmon Management Options

5. Council Recommendations for 2006 Management Option Analysis

6. Council Direction for 2006 Management Options (If Necessary)

7. Fishery Management Plan (FMP) Amendment Scoping for the Klamath River Fall Chinook Conservation Objective

8. Adoption of 2006 Management Options for Public Review

9. Salmon Hearings Officers

D. Enforcement Issues

1. Fishery Enforcement Activity Report

E. Pacific Halibut Management

1. Report on International Pacific Halibut Commission Annual Meeting

2. Incidental Catch Regulations in the Salmon Troll and Fixed Gear Sablefish Fisheries

F. Groundfish Management

1. National Marine Fisheries Service (NMFS) Report

2. Stock Assessment Planning for the 2009-2010 Fishing Season

3. Yelloweye Stock Assessment

4. Pacific Whiting Management for 2006

5. Consideration of Inseason Adjustments

G. Habitat

1. Current Habitat Issues

H. Coastal Pelagic Species Management

1. NMFS Report

2. FMP Amendment - Krill Management

I. Marine Protected Areas (MPAs)

1. Fishery Regulation in MPAs within of the Channel Islands National Marine Sanctuary through Magnuson-Stevens Act and State Management Authority

J. Highly Migratory Species Management

1. NMFS Report

2. Bigeye Tuna Overfishing Response

3. Drift Gillnet Management

4. Exempted Fishing Permit Applications for Highly Migratory Species

SCHEDULE OF ANCILLARY MEETINGS

SUNDAY, MARCH 5, 2006

Klamath Fishery Management Council, 3 p.m., Spokane Room

MONDAY, MARCH 6, 2006

Council Secretariat, 8 a.m., Washington Ballroom E

Groundfish Advisory Subpanel, 8 a.m., Seattle Ballroom 2 and 3

Groundfish Management Team, 8 a.m., Seattle Ballroom 1

Klamath Fishery Management Council, 8 a.m., Spokane Room

Salmon Advisory Subpanel, 8 a.m., Washington Ballroom B

Salmon Technical Team, 8 a.m., Washington Ballroom A

Scientific and Statistical Committee, 8 a.m., Washington Ballroom C

Legislative Committee, 8:30 a.m., Aberdeen Room

Habitat Committee, 10 a.m., Washington Ballroom D

Enforcement Consultants, 5:30 p.m., Aberdeen Room

Tribal Policy Group, As necessary, Olympia Room

Tribal and Washington Technical Groups, As necessary, Bellevue Room

Washington State Delegation, As necessary, Yakima Room

TUESDAY, MARCH 7, 2006

Council Secretariat, 7 a.m., Washington Ballroom E

California State Delegation, 7 a.m., Washington Ballroom D

Oregon State Delegation, 7 a.m., Washington Ballroom B

Groundfish Advisory Subpanel, 8 a.m., Seattle Ballroom 2 and 3

Groundfish Management Team, 8 a.m., Seattle Ballroom 1

Highly Migratory Species Management Team, 8 a.m., Washington Ballroom D

Salmon Advisory Subpanel, 8 a.m., Washington Ballroom B

Salmon Technical Team, 8 a.m., Washington Ballroom A

Scientific and Statistical Committee, 8 a.m., Washington Ballroom C

Enforcement Consultants, As necessary, Aberdeen Room

Klamath Fishery Management Council, As necessary, Spokane Room

Tribal Policy Group, As necessary, Olympia Room

Tribal and Washington Technical Groups, As necessary, Bellevue Room

Washington State Delegation, As necessary, Yakima Room

WEDNESDAY, MARCH 8, 2006

Council Secretariat, 7 a.m., Washington Ballroom E

California State Delegation, 7 a.m., Washington Ballroom D

Oregon State Delegation, 7 a.m., Washington Ballroom B

Groundfish Advisory Subpanel, 8 a.m., Seattle Ballroom 2 and 3

Groundfish Management Team, 8 a.m., Seattle Ballroom 1

Highly Migratory Species Advisory Subpanel, 8 a.m., Washington Ballroom C

Highly Migratory Species Management Team, 8 a.m., Washington Ballroom D

Salmon Advisory Subpanel, 8 a.m., Washington Ballroom B

Salmon Technical Team, 8 a.m., Washington Ballroom A

Enforcement Consultants, As necessary, Aberdeen Room

Klamath Fishery Management Council, As necessary, Spokane Room

Tribal Policy Group, As necessary, Olympia Room

Tribal and Washington Technical Groups, As necessary, Bellevue Room

Washington State Delegation, As necessary, Yakima Room

NMFS Whiting EFP Coordination Meeting, 7 p.m., Seattle Ballroom 2 and 3

THURSDAY, MARCH 9, 2006

Council Secretariat, 7 a.m., Washington Ballroom E

California State Delegation, 7 a.m., Washington Ballroom D

Oregon State Delegation, 7 a.m., Washington Ballroom B

Groundfish Advisory Subpanel, 8 a.m., Seattle Ballroom 2 and 3

Groundfish Management Team, 8 a.m., Seattle Ballroom 1

Highly Migratory Species Advisory Subpanel, 8 a.m., Washington Ballroom C

Highly Migratory Species Management Team, 8 a.m., Washington Ballroom D

Salmon Advisory Subpanel, 8 a.m., Washington Ballroom B

Salmon Technical Team, 8 a.m., Washington Ballroom A

Enforcement Consultants, As necessary, Aberdeen Room

Klamath Fishery Management Council, As necessary, Seattle Ballroom 2 and 3

Tribal Policy Group, As necessary, Olympia Room

Tribal and Washington Technical Groups, As necessary, Bellevue Room

Washington State Delegation, As necessary, Yakima Room

FRIDAY, MARCH 10, 2006

Council Secretariat, 7 a.m., Washington Ballroom E

California State Delegation, 7 a.m., Washington Ballroom D

Oregon State Delegation, 7 a.m., Washington Ballroom B

Salmon Advisory Subpanel, 8 a.m., Washington Ballroom B

Salmon Technical Team, 8 a.m., Washington Ballroom A

Enforcement Consultants, As necessary, Aberdeen Room

Groundfish Advisory Subpanel, As necessary, Washington Ballroom D

Groundfish Management Team, As necessary, Washington Ballroom C

Klamath Fishery Management Council, As necessary, Spokane Room

Tribal Policy Group, As necessary, Olympia Room

Tribal and Washington Technical Groups, As necessary, Bellevue Room

Washington State Delegation, As necessary, Yakima Room

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least five days prior to the meeting date.

Dated: February 13, 2006.
Tracey L. Thompson,
Acting Director, Office of Sustainable Fisheries, National Marine Fisheries Service.

[FR Doc. E6-2225 Filed 2-15-06; 8:45 am]

BILLING CODE 3510-22-S